DEPARTMENT OF EDUCATION

Office of Special Education and Rehabilitative Services; Overview Information; Technical Assistance and Dissemination To Improve Services and Results for Children With Disabilities—Technical Assistance Center on Evidence-Based Practices To Improve Early Literacy and Language Development of Young Children With Disabilities; Notice Inviting Applications for New Awards for Fiscal Year (FY) 2006

Catalog of Federal Domestic Assistance (CFDA) Number: 84.326B.

Dates: Applications Available: January 13, 2006.

Deadline for Transmittal of Applications: February 27, 2006.

Deadline for Intergovernmental Review: May 31, 2006.

Eligible Applicants: State educational agencies (SEAs), local educational agencies (LEAs), public charter schools that are LEAs under State law, institutions of higher education (IHEs), other public agencies, private nonprofit organizations, outlying areas, freely associated States, Indian tribes or tribal organizations, and for-profit organizations.

Estimated Available Funds: The Administration has requested $49,397,000 for the Technical Assistance and Dissemination to Improve Services and Results for Children with Disabilities program for FY 2006, of which we intend to use an estimated $800,000 for the Technical Assistance Center on Evidence-Based Practices to Improve Early Literacy and Language Development of Young Children with Disabilities competition. The actual level of funding, if any, depends on final congressional action. However, we are inviting applications to allow enough time to complete the grant process if Congress appropriates funds for this program.

Maximum Award: We will reject any application that proposes a budget exceeding $800,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: This program promotes academic achievement and improves results for children with disabilities by supporting technical assistance, model demonstration projects, dissemination of useful information, and implementation activities that are supported by scientifically based research.

Priority: In accordance with 34 CFR 75.105(b)(2)(v), this priority is from allowable activities specified in the statute (see sections 663 and 681(d) of the Individuals with Disabilities Education Act (IDEA)).

Absolute Priority: For FY 2005 this priority is an absolute priority. Under 34 CFR 75.105(c)(3), we consider only applications that meet this priority.

This priority is:

Technical Assistance Center on Evidence-Based Practices To Improve Early Literacy and Language Development of Young Children With Disabilities

Background: The process of developing literacy skills begins in the early childhood years. A growing body of evidence shows that early literacy skills, such as phonological processing, print awareness, and oral language are the foundations to later reading success. The recognition of the early childhood years as a critical period in developing the skills needed for later school success has been well documented in research literature. Several recent Federal initiatives, including the Early Reading First grants, the Good Start Grow Smart initiative, and the White House Summit on Early Childhood Cognitive Development in 2001, have highlighted the need for evidence-based practices that promote and support the development of school readiness skills, including early literacy.

In an effort to develop this research base, Federal resources have been directed to examine the impact different curricula, interventions, and programs have on young children's readiness skills, including early literacy and language skills (e.g., Preschool Curriculum Evaluation Research, Head Start Impact Study, Interagency School Readiness Consortium, and Evaluation of Early Reading First Grants). Current efforts are also underway to synthesize and disseminate this knowledge base (e.g., What Works Clearinghouse review of early childhood education, National Early Literacy Panel research synthesis, Child Care and Early Education Research Connections, and Research and Training Center in Early Childhood Development). The ultimate challenge in promoting the development of early literacy and language skills in young children is ensuring the various early care and education providers and families have access to and can utilize the most up-to-date research and information.

One group of children particularly at-risk for experiencing later reading difficulties is young children with developmental delays or diagnosed disabilities. Traditionally, early intervention and early childhood special education providers have focused on developmental and functional goals and have not necessarily addressed early literacy skills. The growing evidence base on the relationship between early literacy and later reading skills highlights the importance of working on early literacy for young children with developmental delays or diagnosed disabilities. Early literacy skills should be targeted with the recognition of the integrated nature of young children's development, within the context of broader early learning and development.

In an effort to encourage the focus on readiness skills for young children receiving services under IDEA, the Office of Special Education Programs (OSEP) developed child outcome indicators for programs under Part C and Part B that States must report on annually in the State Performance Plan (SPP) and Annual Performance Report (APR) required under section 616 of IDEA. These indicators include a focus on early literacy and language development. Specialized technical assistance will be needed to ensure early intervention and early childhood special education and related service providers are equipped with evidence-based interventions and practices that promote the development of early literacy and language skills in young children with disabilities.

Priority: The Technical Assistance Center on Evidence-Based Practice to Improve Early Literacy and Language Development of Young Children with Disabilities (the Center) is designed to build on the existing database of evidence-based and promising intervention practices and to identify, disseminate, and assist in the implementation of the most successful practices available that improve the early literacy and language outcomes of young children with disabilities. For purposes of this priority, young children with disabilities mean children from birth through age five with developmental delays and diagnosed disabilities. The Center must provide the conceptual framework and research base for intervention practices and a cohesive decision-making model related to implementing those practices. In carrying out its activities, the Center must take into consideration the availability of professionals who can coordinate and deliver an effective and practical approach to technical assistance (TA) that providers and programs can adopt, TA efforts that support and enhance the use of evidence-based practices, and TA efforts that support Federal provisions for delivery of services to infants, toddlers, and preschool children with disabilities under Part C and Part B of IDEA.

The Center's knowledge and development activities must include but are not limited to:

(a) Developing a conceptual framework for the work of the Center that includes an evidence base for intervention practices that have been shown to improve early literacy and language outcomes in the context of broader early learning and development, and a cohesive decision-making model related to implementing those practices.

(b) Developing a national TA network comprised of a cadre of experts to provide TA to States in early language and literacy development for young children with disabilities. In their applications, applicants must describe the network and identify the cadre of experts.

(c) In year 1 of the project period, conducting or identifying research syntheses on interventions that have been shown to improve the early literacy and language outcomes for young children with disabilities, and increase the likelihood that they will enter school ready to succeed and participate in classrooms with their typically developing peers. To the extent possible, the Center should use criteria from the What Works Clearinghouse and other rigorous sources in determining what is “evidenced-based”. The research syntheses conducted or identified must at a minimum include research synthesis on:

(1) Developmentally appropriate interventions for young children with disabilities that target the critical components of early literacy, such as phonological processing, print awareness, oral language, and the motivational aspects of early literacy.

(2) Curricula with a research base for young children that include a focus on early literacy and language and how these curricula can be successfully modified, adapted, or individualized for young children with disabilities. These curricula could primarily target early literacy and language or be part of an integrated approach focused on the development of language, early literacy and other pre-academic skills, social behavior, and social-emotional competence necessary for later academic learning and achievement.

(3) The delivery of evidence-based interventions and curricula targeting early literacy and language in a variety of inclusive and natural early childhood environments.

(4) The delivery of family-focused interventions targeting early literacy and language for children receiving services under Part C of IDEA.

(5) Empirically-based assessment practices, including the use of valid and reliable curriculum-based assessments and measures (CBA/CBM) for improving early literacy and language, monitoring individual growth and progress, data-based decisionmaking, aggregating individual child data to evaluate program efforts, and coordinating assessments with State early learning or school readiness standards targeting early literacy and language.

(6) TA strategies that lead to knowledge utilization, sustainable changes in practice, and improved outcomes.

The Center's TA and dissemination activities must include but are not limited to:

(a) Providing general TA and information on evidence-based interventions and practices that promote the development of early literacy and language skills for young children with disabilities to all interested States and other stakeholders. This general TA must reflect the on-going work of the Center by providing up-to-date information on practices that enhance early literacy and language development of young children with disabilities through a variety of TA and dissemination activities (e.g., Web site; listserv; presentations at national, regional, or State conferences; conducting national training institutes, etc.). The Center's training and support must develop the capacity of service providers to use high quality, evidence-based interventions and practices in the various settings where young children with disabilities are served including home, typical early childhood settings, and early intervention/early childhood special education settings. For children receiving services under Part C of IDEA the focus must be on family-focused interventions.

(b) In years 1 and 2 of the project period, identifying and/or developing and evaluating models that successfully implement evidence-based or promising practices and interventions that promote the development of early literacy and language in young children with disabilities in a minimum of five local communities. Models must be identified or developed for providers and programs serving young children with disabilities receiving services under Part C and Part B of IDEA. Models developed or identified must include sites where providers and programs serve young children with disabilities in a variety of settings and sites in various types of communities (rural, urban, suburban, etc.) serving diverse groups of children. Models must include the creation and implementation of professional development plans that enhance early childhood professionals' implementation of evidence-based and high quality interventions and practices. Professional development plans must include early intervention and early childhood special education providers and may include other early care and education providers serving young children with disabilities, such as providers in Head Start/Early Head Start, child care, Title I-funded school-based preschool, and State funded pre-K programs. The Center should be attentive to factors that facilitate fidelity of implementation and are necessary to sustain the model.

(c) In years 3, 4, and 5 of the project period, facilitating the development of State-wide or regional TA networks specifically focused on increasing the use of evidence-based practices that improve the early literacy and language outcomes of young children with disabilities by scaling-up evidence-based models and practices. These TA networks must include building a system for training and supporting State-funded or program-funded “coaches” who provide TA to regional, State, and local early intervention and early childhood special education programs and providers and other early childhood professionals serving young children with disabilities (such as Head Start/Early Head Start, child care, Title I-funded school-based preschool, and State-funded pre-K programs). These TA networks also must include State and local early childhood program administrators (Part C and Part B, Section 619 coordinators, child care administrators, Head Start administrators, Pre-K administrators), families, early childhood professional development experts (including community colleges and other IHEs), researchers, early childhood TA experts, and others. The Center must allocate sufficient resources and time to develop strong TA networks and must give priority to working with States most in need. Applicants must describe in their applications the process and criteria for choosing the States with whom they will work and should consider child outcome data reported on State APRs. This selection process must involve consultation with OSEP.

(d) Developing and implementing a plan for involving and communicating with families in the work of the Center. This plan must be developed in collaboration with OSEP-funded parent programs, including representatives from both the Parent Training and Information Centers and the Community Parent Resource Centers funded by the Department under sections 671 and 672 of IDEA, and must include strategies to ensure involvement and communication with diverse and hard-to-reach families.

The Center also must—

(a) Coordinate the Center's and the TA networks' activities with existing and future IDEA-funded early intervention and early childhood special education TA and research centers. The Center must build on the work of other successful federally funded early childhood projects where applicable. The Center must coordinate activities with the National Early Childhood Technical Assistance Center (NECTAC), the Regional Resource Centers (RRCs), and the Early Childhood Outcomes (ECO) Center, and build on the work of the Research and Training Center in Early Childhood Development;

(b) Coordinate the Center's and the TA networks' activities with other national, regional, State, and local early childhood training and TA efforts, including but not limited to such efforts targeting Head Start/Early Head Start, child care, Title I school-based preschool programs, and State-funded pre-K programs;

(c) Establish, maintain, and meet at least annually with a national advisory group that includes families, early intervention and early childhood special education providers, early literacy experts, national early childhood organizations, and community members involved with young children with disabilities. The national advisory group will be responsible for providing annual feedback on the plans, activities, and accomplishments of the Center;

(d) Evaluate the Center's and TA networks' activities. The Center must measure the impact of TA activities on early childhood professionals and families. Specifically, the Center must document what practitioners and families learn and how TA affected their interactions with young children with disabilities;

(e) Maintain a Web site that is available to early childhood professionals and families and includes all TA materials prepared by the Center in a format that meets a government or industry-recognized standard for accessibility; and

(f) Maintain on-going communication with the OSEP project officer, including monthly conference calls. Budget for a three-day Project Directors' meeting in Washington, DC during each year of the project plus additional two-day trips annually to Washington, DC to attend additional national meetings and to meet and collaborate with the OSEP Project Officer and other funded projects for purposes of cross-project collaboration and information exchange.

Fourth and Fifth Years of the Project: In deciding whether to continue funding the Center for the fourth and fifth years, the Secretary will consider the requirements of 34 CFR 75.253(a), and in addition—

(a) The recommendation of a review team consisting of experts selected by the Secretary, which review will be conducted during the last half of the project's second year in Washington, DC. Projects must budget for travel expenses associated with this one-day intensive review;

(b) The timeliness and effectiveness with which all requirements of the negotiated cooperative agreement have been or are being met by the Center; and

(c) The degree to which the project promotes best practices in the area of services to young children with disabilities.

Waiver of Proposed Rulemaking: Under the Administrative Procedure Act (APA) (5 U.S.C. 553), the Department generally offers interested parties the opportunity to comment on a proposed priority. However, section 681(d) of IDEA makes the public comment requirements under the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: The Administration has requested $49,397,000 for the Technical Assistance and Dissemination to Improve Services and Results for Children with Disabilities program for FY 2006, of which we intend to use an estimated $800,000 for the Technical Assistance Center on Evidence-Based Practices to Improve Early Literacy and Language Development of Young Children with Disabilities competition. The actual level of funding, if any, depends on final congressional action. However, we are inviting applications to allow enough time to complete the grant process if Congress appropriates funds for this program.

Maximum Award: We will reject any application that proposes a budget exceeding $800,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs, LEAs, public charter schools that are LEAs under State law, IHEs, other public agencies, private nonprofit organizations, outlying areas, freely associated States, Indian tribes or tribal organizations, and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326B.

Individuals with disabilities may obtain a copy of the application package in an alternative format (e.g., Braille, large print, audiotape, or computer diskette) by contacting the Grants and Contracts Services Team listed under For Further Information Contact in section VII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; the one-page abstract, the resumes, the bibliography, the references, or the letters of support. However, you must include all of the application narrative in Part III.

We will reject your application if—

• You apply these standards and exceed the page limit; or

• You apply other standards and exceed the equivalent of the page limit.

3. Submission Dates and Times:

Applications Available: January 13, 2006.

Deadline for Transmittal of Applications: February 27, 2006.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: May 31, 2006.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. We have been accepting applications electronically through the Department's e-Application system since FY 2000. In order to expand on those efforts and comply with the President's Management Agenda, we are continuing to participate as a partner in the new government wide Grants.gov Apply site in FY 2006. The Technical Assistance Center on Evidence-Based Practices to Improve Early Literacy and Language Development of Young Children with Disabilities-CFDA Number 84.326B is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for The Technical Assistance Center on Evidence-Based Practices to Improve Early Literacy and Language Development of Young Children with Disabilities at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under For Further Information Contact, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.326B), 400 Maryland Avenue, SW., Washington, DC 20202-4260;

or

By mail through a commercial carrier: U.S. Department of Education, Application Control Center—Stop 4260, Attention: (CFDA Number 84.326B), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.326B), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department has developed measures that will yield information on various aspects of the Technical Assistance and Dissemination to Improve Services and Results for Children with Disabilities program. These measures focus on: the extent to which projects provide high quality products and services, the relevance of project products and services to educational and early intervention policy and practice, and the use of products and services to improve educational and early intervention policy and practice.

We will notify grantees if they will be required to provide any information related to these measures.

Grantees will also be required to report information on their projects' performance in annual reports to the Department (34 CFR 75.590).

VII. Agency Contact

For Further Information Contact: Jennifer Tschantz, U.S. Department of Education, 400 Maryland Avenue, SW., room 4055, Potomac Center Plaza, Washington, DC 20202-2550. Telephone: (202) 245-7556.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 5, 2006.
John H. Hager,
Assistant Secretary for Special Education and Rehabilitative Services.

[FR Doc. E6-163 Filed 1-10-06;8:45 am]

BILLING CODE 4000-01-P